DEPARTMENT OF LABOR

Employment and Training Administration

[TA-W-64,019]

Whittier Wood Products Company Including On-Site Leased Workers From Employers Overload, Oregon Temporary Services and Selectemp Corporation, Eugene, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 2, 2008, applicable to workers of Whittier Wood Products Company, Eugene, Oregon. The Department's Notice of determination was published in the Federal Register on October 20, 2008 (73 FR 62322).

At the request of a firm official, the Department reviewed the certification for workers of the subject firm. Subject firm workers produce wood household furniture and are not separately identifiable by product line.

New information shows that workers leased from Employers Overload, Oregon Temporary Services, and Selectemp Corporation were working on-site at the Eugene, Oregon location of the subject firm. The Department has determined that these workers were sufficiently under the control of the subject firm to be considered leased workers.

Based on these findings, the Department is amending this certification to leased workers of Employers Overload, Oregon Temporary Services, and Selectemp Corporation working on-site at the Eugene, Oregon location of the subject firm.

The intent of the Department's certification is to include all workers of the subject firm who were adversely affected by a shift of production to a foreign country followed by increased imports of articles like or directly competitive with the wood household furniture produced by the subject firm.

The amended notice applicable to TA-W-64,019 is hereby issued as follows:

All workers of Whittier Wood Products Company, Eugene, Oregon, including on-site leased workers from Employers Overload, Oregon Temporary Services, and Selectemp Corporation, who became totally or partially separated from employment on or after October 20, 2008, through October 2, 2010, are eligible to apply for adjustment assistance under Section 223 of the Trade Act of 1974, and are also eligible to apply for alternative trade adjustment assistance under Section 246 of the Trade Act of 1974.

Signed at Washington, DC, this 13th day of February 2009.
Richard Church,
Certifying Officer, Division of Trade Adjustment Assistance.

[FR Doc. E9-4397 Filed 3-2-09; 8:45 am]

BILLING CODE 4510-FN-P